JUDICIAL CONFERENCE OF THE UNITED STATES

Hearings of the Judicial Conference Committees on Appellate, Bankruptcy, Civil and Criminal Rules, and the Rules of Evidence

AGENCY: Judicial Conference of the United States, Advisory Committees on Appellate, Bankruptcy, Civil, and Criminal Procedure, and the Rules of Evidence.

ACTION: Notice of Proposed Amendments and Open Hearings.

SUMMARY: The Advisory Committees on Appellate, Bankruptcy, Civil, and Criminal Rules, and the Rules of Evidence have proposed amendments to the following rules:

Appellate Rules: 1, 29, and Form 4.

Bankruptcy Rules: 1007, 1014, 1015, 1018, 1019, 4004, 5009, 7001, and 9001, and New Rules 1004.2, and 5012.

Civil Rules 26 and 56.

Criminal Rules 5, 12.3, 15, 21, and 32.1.

Evidence Rule 804.

The text of the proposed rules amendments and new rules and the accompanying Committee Notes can be found at the United States Federal Courts' Home Page at http://www.uscourts.gov/rules.

The Judicial Conference Committee on Rules of Practice and Procedure submits these proposed rules amendments and new rules for public comment. All comments and suggestions with respect to them must be place in the hands of the Secretary as soon as convenient and, in any event, not later than February 17, 2009. All written comments on the proposed rule amendments can be sent by one of the following three ways: by overnight mail to Peter G. McCabe, Secretary, Committee on Rules of Practice and Procedure of the Judicial Conference of the United States, Thurgood Marshall Federal Judiciary Building, Washington, DC 20544; by electronic mail at http://www.uscourts.gov/rules; or by facsimile to Peter G. McCabe at (202) 502-1766. In accordance with established procedures all comments submitted on the proposed amendments are available to public inspection.

Public hearings are scheduled to be held on the amendments to:

• Appellate Rules in Washington, DC, on January 30, 2009, and in New Orleans, LA, on February 11, 2009;

• Bankruptcy Rules in New York, NY, on January 23, 2009, and in San Francisco, CA, on February 6, 2009;

• Civil Rules in Washington, DC, on November 17, 2008, in San Antonio, TX, on January 14, 2009, and in San Francisco, CA, on February 2, 2009;

• Criminal Rules in Los Angeles, CA, on January 16, 2009, and in Dallas, TX, on February 9, 2009; and

• Evidence Rules in San Antonio, TX, on January 13, 2009, and in Atlanta, GA, on January 26, 2009.

Those wishing to testify should contact the Committee Secretary at the above address in writing at least 30 days before the hearing.

FOR FURTHER INFORMATION CONTACT: John K. Rabiej, Chief, Rules Committee Support Office, Administrative Office of the United State Courts, Washington, DC 20544, Telephone (202) 502-1820.

Dated: July 25, 2008.
John K. Rabiej,
Chief, Rules Committee Support Office.

[FR Doc. E8-17432 Filed 7-29-08; 8:45 am]

BILLING CODE 2210-55-M